DEPARTMENT OF TRANSPORTATION

National Highway Traffic Safety Administration

49 CFR Part 571

[Docket No. NHTSA-2003-14711]

RIN 2127-AI49

Federal Motor Vehicle Safety Standards; Child Restraint Anchorage Systems

AGENCY: National Highway Traffic Safety Administration (NHTSA), Department of Transportation (DOT).

ACTION: Final rule.

SUMMARY: This document makes permanent the temporary exclusion issued by the agency in an interim final rule published on May 8, 2003 to exclude funeral coaches (as defined in the rule) from the requirements of Federal Motor Vehicle Safety Standard No. 225, “Child restraint anchorage systems.”

DATES: This rule is effective November 15, 2004.

ADDRESSES: Petitions for reconsideration should refer to the docket number and be submitted to: Administrator, Room 5220, National Highway Traffic Safety Administration, 400 Seventh Street, SW., Washington, DC 20590.

Privacy Act: Anyone is able to search the electronic form of all petitions received into any of our dockets by the name of the individual submitting the petition (or signing the petition, if submitted on behalf of an association, business, labor union, etc.). You may review DOT's complete Privacy Act Statement in the Federal Register published on April 11, 2000 (Volume 65, Number 70; Pages 19477-78) or you may visit http://dms.dot.gov.

FOR FURTHER INFORMATION CONTACT: For non-legal questions, Mike Huntley, NHTSA Office of Crashworthiness Standards, Special Vehicle and Systems Division, 400 Seventh St., SW., Washington, DC 20590 (telephone 202-366-0029). For legal questions, Deirdre Fujita, NHTSA Office of Chief Counsel, 400 Seventh St., SW., Washington, DC 20590 (telephone 202-366-2992).

SUPPLEMENTARY INFORMATION:

I. Background

On March 5, 1999, NHTSA published a final rule establishing a new Federal motor vehicle safety standard that required motor vehicle manufacturers to install child restraint anchorage systems that are standardized and independent of the vehicle seat belts.¹ (64 FR 10786) (Docket No. 98-3390, Notice 2) (Federal Motor Vehicle Safety Standard (FMVSS) No. 225, 49 CFR 571.225.) Each system is composed of three anchorages: two lower anchorages and one upper anchorage. The lower anchorages are two 6 millimeter (mm) round steel bars fastened to the vehicle 720 mm apart and located at the intersection of the vehicle seat cushion and seat back. The upper anchorage is a permanent structure to which the hook of a child restraint upper tether may be attached for the purpose of transferring load from the child restraint to the vehicle structure.

¹ See 64 FR 47566; August 31, 1999 (Docket No. NHTSA-99-6160) and 65 FR 46628; July 31, 2000 (Docket No. NHTSA-7648) and 68 FR 38208; June 27, 2003 (Docket No. NHTSA-15438) for later amendments of the rule.

II. Petition for Rulemaking From Accubuilt on Funeral Coaches

FMVSS No. 225 requires a vehicle to be equipped with tether anchorages in front passenger seating positions if (1) the vehicle lacks a rear designated seating position (see S4.3(b)(3) and S4.4(c)), and (2) there is an air bag and no air bag on-off switch in the front passenger seating position. Accubuilt, a final-stage manufacturer of funeral coaches, submitted a petition for rulemaking requesting NHTSA to exclude funeral coaches from the requirement. Accubuilt stated that: “[s]ince a Funeral Coach is a single purpose vehicle, transporting a body and casket, children do not ride in the front seat.”

III. Interim Final Rule on Accubuilt Request

On May 8, 2003, NHTSA published an interim final rule in the Federal Register (68 FR 24644; Docket 14711) which temporarily excluded “funeral coaches” from the requirements of FMVSS No. 225. We limited the exclusion to a one-year period, to receive and evaluate comments on the exclusion and to determine whether to make the exclusion permanent.

We agreed with Accubuilt that it was unlikely that a funeral coach that had no rear seats would carry children in the front seat. We believed that the persons riding in the front seat of this type of vehicle would be the driver and an attendant to the casket, not a child. On the other hand, the agency believed that it was conceivable that a child may be carried in a funeral coach that carried passengers in the rear. Thus, the exclusion of funeral coaches was limited to funeral coaches that had only one row of occupant seats (the front row).

To implement this limited exclusion, we added a definition of “funeral coach” to the standard. Accubuilt had stated that a funeral coach is a vehicle equipped with heavy duty components to handle the additional mass of a body and casket, and that manufacturers of funeral coaches conform to an industry standard that requires “front and rear stops” in the interior of the coach to keep the casket stationary. Based on the above information, we defined “funeral coach” as “a vehicle that contains only one row of occupant seats, is designed exclusively for transporting a body and casket and that is equipped with features to secure a casket in place during operation of the vehicle.” Comments were requested on the definition and on the exclusion of funeral coaches from FMVSS No. 225.

IV. Agency Decision

NHTSA did not receive any comments on the document. The agency has decided to make permanent the exclusion issued in the May 8, 2003 interim final rule. This amendment permanently excludes “funeral coaches” from the requirements of FMVSS No. 225 and adopts a definition of that vehicle type for the reasons provided in the May 2003 final rule.

This rulemaking relieves a restriction on a group of small manufacturers and has no negative safety consequences. Accordingly, NHTSA finds for good cause that an effective date of less than 180 days from the date of publication of this notice is in the public interest.

V. Rulemaking Analyses and Notices

Executive Order 12866 (Federal Regulation) and DOT Regulatory Policies and Procedures

This rulemaking document was not reviewed under E.O. 12866, “Regulatory Planning and Review.” The agency has considered the impact of this rulemaking action under the Department of Transportation's regulatory policies and procedures, and has determined that it is not “significant” under them. This document amends FMVSS No. 225 to exclude funeral coaches from the requirements of the standard on a permanent basis. There are no additional costs associated with this final rule.

Regulatory Flexibility Act

The Regulatory Flexibility Act of 1980 (Public Law 96-354), as amended, requires agencies to evaluate the potential effects of their proposed and final rules on small businesses, small organizations and small governmental jurisdictions. I hereby certify that this rule will not have a significant economic impact on a substantial number of small entities. This final rule relieves a restriction on manufacturers of funeral coaches and does not impose any new obligations or requirements.

Executive Order 13132 (Federalism)

NHTSA has analyzed this rule in accordance with the principles and criteria contained in E.O. 13132, and has determined that it does not have sufficient federalism implications to warrant consultation with State and local officials or the preparation of a federalism summary impact statement. The rule will not have any substantial effects on the States, or on the current Federal-State relationship, or on the current distribution of power and responsibilities among the various local officials.

National Environmental Policy Act

NHTSA has analyzed this rulemaking action for the purposes of the National Environmental Policy Act. The agency has determined that implementation of this action will not have any significant impact on the quality of the human environment.

Executive Order 12778 (Civil Justice Reform)

This rule will not have any retroactive effect. A petition for reconsideration or other administrative proceeding will not be a prerequisite to an action seeking judicial review of this rule. This rule will not preempt the states from adopting laws or regulations on the same subject, except that it will preempt a state regulation that is in actual conflict with the Federal regulation or makes compliance with the Federal regulation impossible or interferes with the implementation of the Federal statute.

List of Subjects in 49 CFR Part 571

Imports, Incorporation by reference, Motor vehicle safety, Reporting and recordkeeping requirements, Tires.

For the reasons set forth in the preamble, NHTSA amends 49 CFR part 571 as follows:

PART 571—FEDERAL MOTOR VEHICLE SAFETY STANDARDS

1. The authority citation for Part 571 continues to read as follows:

Authority: 49 U.S.C. 322, 30111, 30115, 30166 and 30177; delegation of authority at 49 CFR 1.50.

2. In 49 CFR 571.225, S2 and the definition of “funeral coach” in S3 are republished to read as follows:

§ 571.225 Standard No. 225; Child restraint anchorage systems.

* * * * *

S2. Application. This standard applies to passenger cars; to trucks and multipurpose passenger vehicles with a gross vehicle weight rating (GVWR) of 3,855 kilograms (8,500 pounds) or less; and to buses (including school buses) with a GVWR of 4,536 kg (10,000 lb) or less. This standard does not apply to walk-in van-type vehicles, vehicles manufactured to be sold exclusively to the U.S. Postal Service, shuttle buses, and funeral coaches.

S3. Definitions.

* * * * *

Funeral coach means a vehicle that contains only a front row of occupant seats, is designed exclusively for transporting a body and casket and that is equipped with features to secure a casket in place during operation of the vehicle.

Issued on: October 5, 2004.
Jeffrey W. Runge,
Administrator.

[FR Doc. 04-23135 Filed 10-14-04; 8:45 am]

BILLING CODE 4910-59-P